DEPARTMENT OF THE INTERIOR

Bureau of Land Management

[LLNV912000 L13400000.PQ0000 LXSS006F0000; MO#4500089844]

Notice of Public Meeting: Bureau of Land Management Nevada Resource Advisory Councils

AGENCY: Bureau of Land Management, Interior.

ACTION: Notice of public meeting.

SUMMARY: In accordance with the Federal Land Policy and Management Act and the Federal Advisory Committee Act of 1972 (FACA), the Department of the Interior, Bureau of Land Management (BLM) Nevada will hold a joint meeting of its three Resource Advisory Councils (RACs), the Sierra Front-Northwestern Great Basin RAC, the Northeastern Great Basin RAC, and the Mojave-Southern Great Basin RAC in Las Vegas, Nevada. The meeting is open to the public and a public comment period is scheduled for February 11.

DATES: The three RACs will meet on Wednesday, February 10, from 8 a.m. to 3:15 p.m. and Thursday, February 11, from 8 a.m. to 4:30 p.m. A public comment period will be held on Thursday, February 11, at 3:30 p.m. The agenda and additional information and will be posted at http://on.doi.gov/1bkJm1g.

FOR FURTHER INFORMATION CONTACT: Chris Rose, telephone: (775) 861-6480, email: crose@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The three 15-member Nevada RACs advise the Secretary of the Interior, through the BLM Nevada State Director, on a variety of planning and management issues associated with public land management in Nevada. The meeting will be held at the Alexis Park Resort, 375 E. Harmon Ave., Las Vegas, Nevada. Agenda topics include an update on sage grouse, grazing and wild horses and burros; closeout reports of the three RACs; breakout meetings of the three RACs; and scheduling meetings of the individual RACs for the upcoming year. The public may provide written comments to the three RAC groups or to an individual RAC.

Comments may also be submitted by email to blm_nv_communications@blm.gov with the subject 2016 Tri-RAC Comment or by mail at the address provided below. Written comments should be received no later than Feb. 8. BLM Nevada Tri-RAC Comments, c/o Chris Rose, 1340 Financial Blvd., Reno, NV 89502.

Individuals who plan to attend and need further information about the meeting or need special assistance such as sign language interpretation or other reasonable accommodations may contact Chris Rose at the phone number or email address above.

Steve Clutter,
Chief, Office of Communications.

[FR Doc. 2016-01743 Filed 1-29-16; 8:45 am]

BILLING CODE 4310-HC-P